NUCLEAR REGULATORY COMMISSION

Public Meeting on 10 CFR Part 70 Standard Review Plan

AGENCY: Nuclear Regulatory Commission (NRC).

ACTION: Notice of meeting.

SUMMARY: NRC will host a public meeting in Rockville, Maryland. During the meeting, the staff's proposed resolutions to comments received on the 10 CFR Part 70 draft Standard Review Plan. The staff's proposed resolutions to the comments received on the Standard Review Plan can be viewed on the internet at the following website: http: //techconf.llnl.gov/cgi-bin/library?source = *&library = Part_70_lib&file=*

The meeting will provide an opportunity to discuss the staff's proposed resolutions to public comments received on the draft 10 CFR Part 70 Standard Review Plan.

DATES: The meeting is scheduled for Wednesday and Thursday, February 9-10, 2000, from 9:00 am to 4:00 pm. The meeting is open to the public.

ADDRESSES: NRC's Licensing Board Hearing Room at Two White Flint North, Room 3B45, 11545 Rockville Pike, Rockville, Maryland. Visitor parking around the NRC building is limited; however, the meeting site is located adjacent to the White Flint Station on the Metro Red Line.

FOR FURTHER INFORMATION CONTACT: Theodore S. Sherr, Office of Nuclear Material Safety and Safeguards, U.S. Nuclear Regulatory Commission, Washington, DC 20555, telephone (301) 415-7218, e-mail: tss@nrc.gov

Dated at Rockville, Maryland, this 27th Day of January, 2000.
For the Nuclear Regulatory Commission.
Theodore S. Sherr,
Chief, Licensing and International Safeguards Branch, Division of Fuel Cycle Safety and Safeguards, NMSS.

Agenda, Public Meeting, Part 70 Standard Review Plan Comment Resolution, February 9-10, 2000

• Opening remarks—NRC

• Introduction—NRC

• General remarks—NEI/other participants

• Discussion of SRP comments received

• Overall introduction—NRC

• On a chapter-by-chapter basis:

—Introduction—NRC

—Completeness of comment resolution table—NEI/other participants

—Discuss specific comment resolutions identified by NEI/other participants

• Comments by attendees other than NEI

• Closing remarks

• NRC

• Participants

[FR Doc. 00-2230 Filed 2-1-00; 8:45 am]

BILLING CODE 7590-01-P